FEDERAL COMMUNICATIONS COMMISSION

47 CFR Part 15

[ET Docket No. 04-186 and 02-380; FCC 12-36]

Unlicensed Operation in the TV Broadcast Band

AGENCY: Federal Communications Commission.

ACTION: Correcting amendment.

SUMMARY: On May 17, 2012, the Commission released a Third Memorandum Opinion and Order, in the matter of “Unlicensed Operation in the TV Broadcast Band Approval.” This document contains corrections to the final regulations that appeared in the Federal Register of May 17, 2012 (77 FR 29246).

DATES: Effective June 18, 2012.

FOR FURTHER INFORMATION CONTACT: Nancy J. Brooks, Office of Engineering and Technology, (202) 418-2454.

SUPPLEMENTARY INFORMATION:

Background

The final regulations that are the subject of this correction relate to “Unlicensed Operation in the TV Broadcast Band Approval” under § 15.712(h) of the rules.

Need for Correction

As published May 17, 2012, in FR Doc. No. 2012-11906, beginning on page 29236, the amendatory instructions in the final regulations contain an error, which requires immediate correction.

On page 29246, in the third column, amendatory instruction 4 is revised to read as follows:

“4. Section 15.712 is amended by revising paragraph (a)(2), adding paragraph (a)(3) and revising paragraphs (h)(1), (2), and (3) to read as follows:”

Federal Communications Commission.
Marlene H. Dortch,
Secretary.

[FR Doc. 2012-13496 Filed 6-4-12; 8:45 am]

BILLING CODE 6712-01-P